DEPARTMENT OF COMMERCE

National Oceanic and Atmospheric Administration

Agency Information Collection Activities; Submission to the Office of Management and Budget (OMB) for Review and Approval; Comment Request; NOAA Teacher at Sea Program

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 3, 2023.

ADDRESSES: Interested persons are invited to submit written comments to Adrienne Thomas, NOAA PRA Officer, at NOAA.PRA@noaa.gov. Please reference OMB Control Number 0648-0283 in the subject line of your comments. Do not submit Confidential Business Information or otherwise sensitive or protected information.

FOR FURTHER INFORMATION CONTACT: Requests for additional information or specific questions related to collection activities should be directed to Jennifer Hammond, Director, NOAA Teacher at Sea Program, 200 Harry S Truman Hwy, Annapolis, MD 21401 240-628-5210, jennifer.hammond@noaa.gov.

SUPPLEMENTARY INFORMATION:

I. Abstract

This request is for extension of a currently approved information collection.

NOAA provides educators an opportunity to gain first-hand experience with field research activities through the Teacher at Sea Program. Through this program, educators spend up to 3 weeks at sea on a NOAA research vessel, participating in an ongoing research project with NOAA scientists. The application solicits information from interested educators including: basic personal information, teaching experience, and ideas for applying program experience in their classrooms, plus two recommendation and a NOAA Health Services Questionnaire required of anyone selected to participate in the program.

Once educators are selected and participate on a cruise, they write a report detailing the events of the cruise and ideas for classroom activities based on what they learned while at sea. These materials are then made available to other educators so they may benefit from the experience, without actually going out to sea by themselves. This collection supports NOAA's mission by providing educators an opportunity to gain first-hand experience with field research activities through the Teacher at Sea Program.

NOAA does not collect information from this universe of respondents for any other purpose than to determine which educators will participate in the NOAA Teacher at Sea Program.

II. Method of Collection

Internet via Teacher at Sea website form.

III. Data

OMB Control Number: 0648-0283.

Form Number(s): NOAA Form 57-10-01.

Type of Review: Regular submission.

Affected Public: Individuals.

Estimated Number of Respondents: 375.

Estimated Time per Response: Application: 1 hr. 15 min; Recommendations: 15 minutes; NOAA Health Services Questionnaire and Tuberculosis Screening Document: 45 minutes; Follow-up Report: 2 hours.

Estimated Total Annual Burden Hours: 781.

Estimated Total Annual Cost to Public: $0.

Respondent's Obligation: Voluntary.

Legal Authority: National Marine Sanctuaries Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-24092 Filed 11-3-22; 8:45 am]

BILLING CODE 3510-22-P